DEPARTMENT OF COMMERCE

Economic Development Administration

[Docket No.: 0809241258-81264-01]

Introduction of New Application for Investment Assistance (Form ED-900)

AGENCY: Economic Development Administration (EDA), Department of Commerce.

ACTION: Notice; introduce funding application form.

SUMMARY: The Economic Development Administration (EDA) publishes this notice to introduce its new Application for Investment Assistance (Form ED-900). Previously, applicants were required to complete and submit a Pre-Application for Investment Assistance (Form ED-900P), followed by an Application for Investment Assistance (Form ED-900A) if EDA deemed that the proposed project merited further consideration. In addition, applicants were required to submit additional application forms to address EDA's programmatic requirements, depending on the type of funding assistance sought. The new Form ED-900 consolidates all EDA-specific requirements into a single application form. EDA will continue to require additional government-wide federal grant assistance forms from the Standard Form 424 family as part of the application package. This change, which is effective November 1, 2008, is prospective and will not affect previously submitted applications or require the submission of new application packages.

DATES: On October 1, 2008, EDA will make available the new Form ED-900 for use by applicants seeking EDA investment assistance. There will be a one-month period to completely phase-in the use of the new Form ED-900. Applications received before November 1, 2008 using previously issued application forms may still be processed; however, beginning November 1, 2008, only the Form ED-900, along with specific forms and attachments from the Standard Form 424 family, will be accepted for consideration. This applies to any applicant that already has submitted a Pre-Application for Investment Assistance (Form ED-900P). If EDA invites such an applicant's project, beginning November 1, 2008, the applicant must complete and submit the new Form ED-900, with guidance from EDA. Any applications received on or after November 1, 2008 using previously issued EDA application forms will be returned to the applicant with appropriate instructions on how to access and complete the new Form ED-900.

FOR FURTHER INFORMATION CONTACT: Maureen Klovers, Office of Regional Affairs, Economic Development Administration; Telephone: 202-482-2785; E-mail: mklovers@eda.doc.gov.

SUPPLEMENTARY INFORMATION:

Background

EDA's mission is to lead the federal economic development agenda by promoting innovation and competitiveness, preparing American regions for growth and success in the worldwide economy. In implementing this mission pursuant to the Public Works and Economic Development Act of 1965, as amended (42 U.S.C. 3121 et seq.) (PWEDA), EDA advances growth by providing assistance to communities and regions experiencing chronic high unemployment and low per capita income to create an environment that fosters innovation, promotes entrepreneurship, and attracts increased private capital investment. Under PWEDA, EDA provides assistance through five economic development programs that support a wide range of economic development needs: (i) Public Works, which helps support the construction or rehabilitation of essential public infrastructure and facilities; (ii) Economic Adjustment Assistance, which provides a wide range of technical, planning, and infrastructure assistance and may include Non-Construction, Revolving Loan Fund, and Design and Engineering projects; (iii) Research and National and Local Technical Assistance, which supports research projects of leading, world class economic development practices and funds information dissemination efforts; (iv) Planning, which helps support planning organizations in the development, implementation, revision or replacement of comprehensive economic development strategies and includes Short-Term and State Planning projects; and (v) the University Center Economic Development Program, which is a partnership between the federal government and academia that helps to make the varied and vast resources of universities available to economic development communities.

Previously, an applicant seeking EDA funding was required to complete and submit a maximum of three EDA-specific application forms: (i) A Pre-Application for Investment Assistance (Form ED-900P); (ii) an Application for Investment Assistance (Form ED-900A); and (iii) a program-specific supplement to Form ED-900A. The Standard Form 424 family was embedded within the Form ED-900A and the applicable program-specific supplement.

Structure of the New Form ED-900

On October 1, 2008, EDA will introduce Form ED-900, which consolidates into a single application all of EDA's program-specific requirements contained in the ED-900P, the ED-900A, and the program-specific components to ED-900A. The new Form ED-900 is divided into lettered sections that correspond to specific EDA program components (e.g., Local or National Technical Assistance; Construction Assistance), which address all of EDA's statutory and regulatory requirements. Only the first section, Section A, solicits general information regarding a proposed project and must be completed by all applicants for any type of assistance. Section B solicits specific economic data to help EDA assess an applicant's regional eligibility for Public Works or Economic Adjustment Assistance, and Section C solicits information to help EDA determine the applicant's maximum allowable investment rate for Planning, Local and National Technical Assistance, University Center, or Research and Evaluation projects. Section D solicits documents from non-governmental applicants relevant to organizational capacity and structure. The remaining sections solicit information essential for EDA to assess project effectiveness and competitiveness by program type, such as project coordination with existing economic development strategies and potential impact. Sections E, F, G, H, I, J, K, L, M, and N solicit such information from applicants for Non-Construction, Planning, Short-Term Planning, State Planning, Local or National Technical, University Center, Economic Adjustment, Revolving Loan Fund, Construction, and Design and Engineering Assistance, respectively. The Form ED-900 also contains a series of exhibits, which include EDA and Department of Commerce assurances and the Calculation of Estimated Relocation and Land Acquisition Expenses. The text of the Form ED-900 specifies which exhibits are required for each type of applicant.

Benefits of the New Form ED-900

The agency's goal in replacing the ED-900P, the ED-900A, and the program-specific supplements to ED-900A with the Form ED-900 is to reduce significantly the paperwork burden on applicants and government personnel and to reduce confusion over which program-specific component should be submitted. In addition, because the new Form ED-900 consolidates all EDA requirements into a single application, EDA anticipates and encourages increased electronic application submission through Grants.gov at http://www.grants.gov. According to Paperwork Reduction Act estimates approved by the Office of Management and Budget (OMB), the use of the ED-900 will reduce applicant burden from a combined 46 hours for Forms ED-900P, ED-900A, and the project specific component to 22 hours.

Where To Obtain the New Form ED-900 and Submission Instructions

Applicants are advised to read carefully the instructions contained in the applicable Federal Funding Opportunity (FFO) announcement under which they are applying, Form ED-900, and the relevant Standard Forms (SF) 424 in the SF-424 family. The content of the application is the same for paper submissions as it is for electronic submissions. EDA will not accept facsimile transmissions of applications.

To apply for all types of EDA assistance, applicants must submit a completed Form ED-900 and the Application for Federal Assistance (Form SF-424), both of which are available at Grants.gov or http://www.eda.gov/InvestmentsGrants/Application.xml. Applicants also must submit specific forms in the SF-424 family of forms, depending on whether the applicant seeks funding for a non-construction or construction-related project. For example, if an applicant seeks funding for a non-construction project, Budget Information—Non-Construction Programs (Form SF-424A) and Assurances—Non-Construction Programs (Form SF-424B) also must be submitted. If an applicant seeks funding for a construction project, Budget Information—Construction Programs (Form SF-424C) and Assurances—Construction Programs (Form SF-424D) also must be submitted. The applicant also must submit a Department of Commerce (CD) form concerning lobbying, Certification Regarding Lobbying (Form CD-511) and may be required to submit to an individual background screening using Applicant for Funding Assistance (Form CD-346). The applicant also may be required to submit a Disclosure of Lobbying Activities (Form SF-LLL). All of these forms previously were required and embedded within the Form ED-900A and the applicable program-specific supplement. The new Form ED-900 provides detailed guidance to help the applicant assess whether Forms CD-346 and SF-LLL are required. All above-noted forms are available through Grants.gov or at http://www.eda.gov/InvestmentsGrants/Application.xml. You may find most forms on Grants.gov within the SF-424 Family Active Forms Repository at http://apply07.grants.gov/apply/FormLinks?family=15. Although the Form CD-346 is not available on Grants.gov as a mandatory form, the new Form ED-900 provides guidance on uploading the form for submission through Grants.gov in the optional documents section.

Please note that an applicant need not complete all sections of the Form ED-900. As noted above, the sections an applicant must complete is determined by the program under which funding is sought. Based on program type, the following table details the sections and exhibits in the ED-900 that the applicant must complete. This table also is provided on the first page of the Instructions to the Form ED-900.

EDA program | Required Form ED-900 section
Public Works | Complete Sections A, B, and M and Exhibits A, D and E.
Economic Adjustment | Complete Sections A, B, and K and Exhibit C. Also Complete Sections M and Exhibits A, D, and E if request has construction components, and Section N if request has only design/engineering requirements. Complete Section E if request has no construction components.
Partnership Planning | Complete Sections A, C, E, and F and Exhibit C.
Short-Term Planning | Complete Sections A, C, E, and G and Exhibit C.
State Planning | Complete Sections A, C, E, G, and H and Exhibit C.
University Center | Complete Sections A, C, E, and J and Exhibit C.
Local Technical Assistance | Complete Sections A, C, E, and I and Exhibit C.
National Technical Assistance | Complete Sections A, C, E, and I and Exhibit B.
Research and Evaluation Assistance | Complete Sections A, C, E and Exhibit B.
Revolving Loan Fund | Complete Sections A, B, E, K, and L and Exhibit C.
Design and Engineering | Complete Sections A, B, and N and Exhibit C.

All forms required for a complete application for EDA assistance may be submitted either: (i) In paper (hardcopy) format at the applicable regional office address provided below; or (ii) electronically in accordance with the procedures provided on Grants.gov.

Addresses and Telephone Numbers for EDA's Regional Offices: Applicants in Alabama, Florida, Georgia, Kentucky, Mississippi, North Carolina, South Carolina and Tennessee, may submit hard copy applications to: Economic Development Administration, Atlanta Regional Office, 401 West Peachtree Street, NW., Suite 1820, Atlanta, Georgia 30308, Telephone: (404) 730-3002, Fax: (404) 730-3025.

Applicants in Arkansas, Louisiana, New Mexico, Oklahoma and Texas may submit hard copy applications to: Economic Development Administration, Austin Regional Office, 504 Lavaca, Suite 1100, Austin, Texas 78701-2858, Telephone: (512) 381-8144, Fax: (512) 381-8177.

Applicants in Illinois, Indiana, Michigan, Minnesota, Ohio, Wisconsin and Muscatine and Scott counties, Iowa, may submit hard copy applications to: Economic Development Administration, Chicago Regional Office, 111 North Canal Street, Suite 855, Chicago, Illinois 60606.

Telephone: (312) 353-7706, Fax: (312) 353-8575.

Applicants in Colorado, Iowa (excluding Muscatine and Scott counties), Kansas, Missouri, Montana, Nebraska, North Dakota, South Dakota, Utah and Wyoming, may submit hard copy applications to: Economic Development Administration, 410 17th Street, Suite 250, Denver, CO 80202.

Telephone: (303) 844-4714, Fax: (303) 844-3968.

Applicants in Connecticut, Delaware, District of Columbia, Maine, Maryland, Massachusetts, New Hampshire, New Jersey, New York, Pennsylvania, Puerto Rico, Rhode Island, Vermont, U.S. Virgin Islands, Virginia and West Virginia, may submit hard copy applications to: Economic Development Administration, Philadelphia Regional Office, Curtis Center, 601 Walnut Street, Suite 140 South, Philadelphia, Pennsylvania 19106.

Telephone: (215) 597-4603, Fax: (215) 597-1063.

Applicants in Alaska, American Samoa, Arizona, California, Guam, Hawaii, Idaho, Marshall Islands, Micronesia, Nevada, Northern Mariana Islands, Oregon, Republic of Palau and Washington, may submit hard copy applications to: Economic Development Administration, Seattle Regional Office, Jackson Federal Building, Room 1890, 915 Second Avenue, Seattle, Washington 98174.

Telephone: (206) 220-7660, Fax: (206) 220-7669.

Paper Submissions: Applicants choosing this option must submit one original and two copies of the completed application via postal mail, shipped overnight or hand-delivered to the applicable regional office, unless otherwise directed by EDA staff. Department of Commerce mail security measures may delay receipt of United States Postal Service mail for up to two weeks. Therefore, applicants who wish to submit paper applications are advised to use guaranteed overnight delivery services.

Electronic Submissions: Applicants choosing this option should submit applications in accordance with the instructions provided at http://www.grants.gov. Please visit http://www.grants.gov/assets/FindApplyUserGuide.pdf for detailed instructions on electronic submissions. You may access the application packages for EDA's two current funding announcements, Economic Development Assistance Programs (Funding Opportunity Number EDA021908) and Supplemental Appropriations Disaster Relief Opportunity (Funding Number EDA08112008) at http://www.grants.gov/applicants/apply_for_grants.jsp. The preferred file format for electronic attachments to the new Form ED-900 (e.g., the project description and letters of commitment for construction projects) is portable document format (PDF); however, EDA will accept electronic files in Microsoft Word, Microsoft Excel, or WordPerfect formats.

Applicants should access the following link for assistance in navigating www.grants.gov and for a list of useful resources: http://www.grants.gov/applicants/applicant_help.jsp. If you do not find an answer to your question under Frequently Asked Questions, try consulting the Applicant's User Guide. If you still cannot find an answer to your question, contact http://www.grants.gov via e-mail at support@grants.gov or telephone at 1.800.518.4726. The hours of operation for http://www.grants.gov are Monday-Friday, 7 a.m. to 9 p.m. (Eastern Time) (except for federal holidays).

FOR FURTHER INFORMATION CONTACT: For additional information or for a paper copy of the applicable FFO announcement, contact the appropriate EDA regional office listed above. EDA's Internet Web site at http://www.eda.gov also contains additional information on EDA and its programs.

Paperwork Reduction Act: This document contains collection-of-information requirements subject to the Paperwork Reduction Act (PRA). The use of Form ED-900 (Application for Investment Assistance) has been approved by OMB under the control number 0610-0094. The use of Forms SF-424 (Application for Financial Assistance), SF-424A (Budget Information—Non-Construction Programs), SF-424B (Assurances—Non-Construction Programs), SF-424C Budget Information—Construction Programs, SF-424D (Assurances—Construction Programs), and SF-LLL Disclosure of Lobbying Activities (SF-LLL) has been approved under OMB control numbers 4040-0004, 4040-0006, 4040-0007, 4040-0008, 4040-0009, and 0348-0046, respectively. The use of Form CD-346 has been approved under OMB control number 0605-0001. Notwithstanding any other provision of law, no person is required to respond to, nor shall any person be subject to a penalty for failure to comply with, a collection of information subject to the requirements of the PRA unless that collection of information displays a currently valid OMB control number.

Executive Order 12866 (Regulatory Planning and Review): This notice has been determined to be not significant for purposes of Executive Order 12866.

Executive Order 13132 (Federalism): It has been determined that this notice does not contain policies with Federalism implications as that term is defined in Executive Order 13132.

Administrative Procedure Act/Regulatory Flexibility Act: Prior notice and an opportunity for public comments are not required by the Administrative Procedure Act or any other law for rules concerning grants, benefits, and contracts (5 U.S.C. 553(a)(2)). Because notice and opportunity for comment are not required pursuant to 5 U.S.C. 553 or any other law, the analytical requirements of the Regulatory Flexibility Act (5 U.S.C. 601 et seq. ) are inapplicable. Therefore, a regulatory flexibility analysis has not been prepared.

Dated: September 25, 2008.
Benjamin Erulkar,
Deputy Assistant Secretary of Commerce for Economic Development and Chief Operating Officer.

[FR Doc. E8-23116 Filed 9-30-08; 8:45 am]

BILLING CODE 3510-24-P